DEPARTMENT OF ENERGY

[FE Docket No. 18-144-LNG]

Change In Control; ECA Liquefaction, S. de R.L. de C.V.

AGENCY: Office of Fossil Energy, Department of Energy.

ACTION: Notice of change in control.

SUMMARY: The Office of Fossil Energy (FE) of the Department of Energy (DOE) gives notice of receipt of a Statement of Change in Control (Statement) filed by ECA Liquefaction, S. de R.L. de C.V. (ECA Liquefaction) in the above-referenced docket on January 7, 2021. The Statement describes a change in upstream ownership of ECA Liquefaction. The Statement was filed under the Natural Gas Act (NGA).

DATES: Protests, motions to intervene, or notices of intervention, as applicable, and written comments are to be filed using procedures detailed in the Public Comment Procedures section no later than 4:30 p.m., Eastern time, February 18, 2021.

ADDRESSES: Electronic Filing by email: fergas@hq.doe.gov.

Regular Mail: U.S. Department of Energy (FE-34), Office of Regulation, Analysis, and Engagement, Office of Fossil Energy, P.O. Box 44375, Washington, DC 20026-4375.

Hand Delivery or Private Delivery Services (e.g., FedEx, UPS, etc.): U.S. Department of Energy (FE-34), Office of Regulation, Analysis, and Engagement, Office of Fossil Energy, Forrestal Building, Room 3E-042, 1000 Independence Avenue SW, Washington, DC 20585.

FOR FURTHER INFORMATION CONTACT:

Amy Sweeney or Jennifer Wade, U.S. Department of Energy (FE-34), Office of Regulation, Analysis, and Engagement, Office of Fossil Energy, Forrestal Building, Room 3E-042, 1000 Independence Avenue SW, Washington, DC 20585, (202) 586-2627; (202) 586-4749, amy.sweeney@hq.doe.gov or jennifer.wade@hq.doe.gov.

Cassandra Bernstein, U.S. Department of Energy (GC-76), Office of the Assistant General Counsel for Electricity and Fossil Energy, Forrestal Building, 1000 Independence Avenue SW, Washington, DC 20585, (202) 586-9793, cassandra.bernstein@hq.doe.gov.

SUPPLEMENTARY INFORMATION:

Summary of Change in Control

ECA Liquefaction states that it is a variable-capital, limited liability company organized under the laws of Mexico. ECA Liquefaction is owned approximately 99.99% by ECA LNG Holdings B.V. (ECA LNG Holdings), with the remainder owned by ECA Minority, S. de R.L. de C.V. ECA Liquefaction states that, prior to December 9, 2020, two companies—Sempra LNG ECA Liquefaction, LLC (Sempra LNG) and Infraestructura Energética Nova, S.A.B. de C.V. (IEnova)—each held a direct 50% ownership interest in ECA LNG Holdings.

On December 9, 2020, Sempra LNG, IEnova, and Total Gaz Electricité Holdings France S.A.S. (Total) entered into an equity issuance and subscription agreement whereby Total acquired a 16.6% equity interested in ECA LNG Holdings (Transaction). ECA Liquefaction states that Total is owned 100% by Total Holdings, S.A.S., which in turn is wholly owned by Total SE, a French energy company. ECA Liquefaction further states that an affiliate of Total, Total Gas & Power Asia Private Limited, is an existing customer of ECA Liquefaction. Following the Transaction, Sempra LNG and IEnova each retain a 41.7% ownership interest in ECA LNG Holdings.

Additional details can be found in ECA Liquefaction's Statement, posted on the DOE/FE website at: https://www.energy.gov/sites/prod/files/2021/01/f82/ECA%20-%20CIC%20Statement.pdf.

DOE/FE Evaluation

DOE/FE will review ECA Liquefaction's Statement in accordance with its Procedures for Changes in Control Affecting Applications and Authorizations to Import or Export Natural Gas (CIC Procedures).¹ Consistent with the CIC Procedures, this notice addresses ECA Liquefaction's authorization to export liquefied natural gas (LNG) to non-free trade agreement (non-FTA) countries, granted in DOE/FE Order No. 4364, as amended by Orders No. 4364-A and 4364-B.² If no interested person protests the change in control and DOE takes no action on its own motion, the proposed change in control will be deemed granted 30 days after publication in the Federal Register. If one or more protests are submitted, DOE will review any motions to intervene, protests, and answers, and will issue a determination as to whether the proposed change in control has been demonstrated to render the underlying authorization inconsistent with the public interest.

¹ 79 FR 65541 (Nov. 5, 2014).

² ECA Liquefaction's Statement also applies to its existing authorization to export LNG to FTA countries, but DOE/FE will respond to that portion of the document separately pursuant to the CIC Procedures, 79 FR 65542.

Public Comment Procedures

Interested persons will be provided 15 days from the date of publication of this notice in the Federal Register to move to intervene, protest, and answer ECA Liquefaction's Statement.³ Protests, motions to intervene, notices of intervention, and written comments are invited in response to this notice only as to the change in control described in ECA Liquefaction's Statement. All protests, comments, motions to intervene, or notices of intervention must meet the requirements specified by DOE's regulations in 10 CFR part 590.

³ Intervention, if granted, would constitute intervention only in the change in control portion of this proceeding, as described herein.

Filings may be submitted using one of the following methods: (1) Preferred method: Emailing the filing to fergas@hq.doe.gov; (2) mailing an original and three paper copies of the filing to the Office of Regulation, Analysis, and Engagement at the address listed in ADDRESSES; or (3) hand delivering an original and three paper copies of the filing to the Office of Regulation, Analysis, and Engagement at the address listed in ADDRESSES. All filings must include a reference to the individual FE Docket Number(s) in the title line, or ECA Liquefaction, S. de R.L. de C.V. Change in Control in the title line. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

ECA Liquefaction's Statement, and any filed protests, motions to intervene, notices of intervention, and comments, are available for inspection and copying in the Office of Regulation, Analysis, and Engagement docket room, Room 3E-042, 1000 Independence Avenue SW, Washington, DC, 20585. The docket room is open between the hours of 8:00 a.m. and 4:30 p.m., Monday through Friday, except Federal holidays.

ECA Liquefaction's Statement, and any filed protests, motions to intervene, notices of intervention, and comments, will also be available electronically by going to the following DOE/FE Web address: https://www.energy.gov/fe/services/natural-gas-regulation.

Signed in Washington, DC, on January 28, 2021.
Amy Sweeney,
Director, Office of Regulation, Analysis, and Engagement, Office of Oil and Natural Gas.

[FR Doc. 2021-02217 Filed 2-2-21; 8:45 am]

BILLING CODE 6450-01-P